DEPARTMENT OF HEALTH AND HUMAN SERVICES

Centers for Medicare & Medicaid Services

[Document Identifiers: CMS-64, CMS-10295 and CMS-10401]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Revision of a currently approved collection;

Title of Information Collection: Quarterly Medicaid Statement of Expenditures for the Medical Assistance Program; Use: Form CMS-64 has been used since January 1980 by Medicaid state agencies to report their actual program benefit costs and administrative expenses. CMS uses this information to compute the federal financial participation for the state's Medicaid program costs. Certain schedules of the CMS-64 form are used by states to report budget, expenditure and related statistical information required for implementation of the Medicaid portion of the State Children's Health Insurance Programs, Title XXI of the Social Security Act, established by the Balanced Budget Act of 1997. Form Number: CMS-64 (OCN: 0938-0067); Frequency: Quarterly; Affected Public: State, Local, or Tribal Governments; Number of Respondents: 56; Total Annual Responses: 224; Total Annual Hours: 16,464. (For policy questions regarding this collection contact Abraham John at 410-786-4518. For all other issues call 410-786-1326.)

2. Type of Information Collection Request: Revision of a currently approved collection; Title of Information Collection: Reporting Requirements for States Under Transitional Medical Assistance (TMA) Provisions; Use: The HHS Secretary is required to submit annual reports to Congress with information collected from states in accordance with section 5004(d) of the American Recovery and Reinvestment Act of 2009. Medicaid agencies in 50 states complete the reports while we review the information to determine if each state has met all of the reporting requirements specified under section 5004(d). We are revising this package to remove the requirement to report the Medicaid Federal Medical Assistance Percentage since it no longer needs to be collected from states. Form Number: CMS-10295 (OCN: 0938-1073). Frequency: Quarterly; Affected Public: State, Local, or Tribal Governments; Number of Respondents: 50; Total Annual Responses: 200; Total Annual Hours: 400. (For policy questions regarding this collection contact Rhonda Simms at 410-786-1200. For all other issues call 410-786-1326.)

3. Type of Information Collection Request: Revision of a currently approved collection; Title of Information Collection: Standards Related to Reinsurance, Risk Corridors and Risk Adjustment; Use: Section 1341 of the Affordable Care Act provides that each state must establish a transitional reinsurance program to help stabilize premiums for coverage in the individual market during the first three years of Exchange operation. Section 1342 provides for the establishment of a temporary risk corridors program that will apply to qualified health plans in the individual and small group markets for the first three years of Exchange operation. Section 1343 provides for a program of risk adjustment for all non-grandfathered plans in the individual and small group market both inside and outside of the Exchange. These risk-spreading programs, which will be implemented by HHS, states, or both HHS and states, are designed to mitigate adverse selection and provide stability for health insurance issuers in the individual and small group markets as market reforms and Exchanges are implemented. Section 1321(a) also provides broad authority for the Secretary to establish standards and regulations to implement the statutory requirements related to Exchanges, reinsurance, risk adjustment, and other components of title I of the Affordable Care Act. The data collection and reporting requirements described in this information collection request will enable states, HHS, or both states and HHS to implement the aforementioned programs, which will mitigate the impact of adverse selection in the individual and small group markets both inside and outside the Exchange. Form Number: CMS-10401 (OCN: 0938-1155); Frequency: Occasionally; Affected Public: Private Sector (business or other for-profit and not-for-profit institutions); Number of Respondents: 24,171; Total Annual Responses: 584,042; Total Annual Hours: 1,013,293. (For policy questions regarding this collection contact Jaya Ghildiyal at 301-492-5149. For all other issues call 410-786-1326.)

To obtain copies of the supporting statement and any related forms for the proposed paperwork collections referenced above, access CMS Web site address at http://www.cms.hhs.gov/PaperworkReductionActof1995, or Email your request, including your address, phone number, OMB number, and CMS document identifier, to Paperwork@cms.hhs.gov, or call the Reports Clearance Office on (410) 786-1326.

To be assured consideration, comments and recommendations for the proposed information collections must be received by the OMB desk officer at the address below, no later than 5 p.m. on June 24, 2013.

OMB, Office of Information and Regulatory Affairs, Attention: CMS Desk Officer, Fax Number: (202) 395-6974, Email: OIRA _submission@omb.eop.gov.

Dated: May 21, 2013.
Martique Jones,
Deputy Director, Regulations Development Group, Office of Strategic Operations and Regulatory Affairs.

[FR Doc. 2013-12465 Filed 5-23-13; 8:45 am]

BILLING CODE 4120-01-P